DEPARTMENT OF ENERGY

Federal Energy Regulatory Commission

[Docket No. RP04-297-000]

Iroquois Gas Transmission System, L.P.; Notice Of Proposed Changes In FERC Gas Tariff

May 11, 2004.

Take notice that on May 7, 2004, Iroquois Gas Transmission System, L.P. (Iroquois) tendered for filing as part of its FERC Gas Tariff, First Revised Volume No. 1, the following tariff sheets, to become effective June 6, 2004:

First Revised Sheet No. 4B

Fourth Revised Sheet No. 93A

Fifth Revised Sheet No. 94

Third Revised Sheet No. 97

Fourth Revised Sheet No. 105

Fifth Revised Sheet No. 106

Fourth Revised Sheet No. 162

Iroquois periodically conducts reviews of its tariff to determine if there are errors, omissions or non-substantive corrective changes that should be made. On September 1, 2000, Iroquois submitted and the Commission approved, tariff changes addressing a provision in Order No. 637 and 637-A (collectively the Orders) waiving the rate ceiling for short-term (less than one year) capacity release transactions between March 27, 2000 and September 1, 2002. The rate ceiling for short-term capacity release transactions has expired under the Orders and Iroquois desires to remove the outdated language referencing the waiver from its tariff. The tariff modifications proposed herein accomplish this task.

Iroquois states that copies of its filing were served on all jurisdictional customers and interested state regulatory agencies and all parties to the proceeding.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's web site under the e-Filing link.

Linda Mitry,
Acting Secretary.

[FR Doc. E4-1172 Filed 5-14-04; 8:45 am]

BILLING CODE 6717-01-P